DEPARTMENT OF ENERGY

Federal Energy Regulatory Commission

Combined Notice of Filings #1

March 6, 2007.

Take notice that the Commission received the following exempt wholesale generator filings:

Docket Numbers: EG07-31-000.

Applicants: Diablo Winds, LLC.

Description: Diablo Winds, LLC submits a notice of Self-Recertification as an Exempt Wholesale Generator.

Filed Date: 01/08/2007.

Accession Number: 20070125-0179.

Comment Date: 5 p.m. Eastern Time on Tuesday, March 13, 2007.

Take notice that the Commission received the following electric rate filings:

Docket Numbers: ER03-1413-005.

Applicants: Sempra Energy Trading Corp.

Description: Sempra Energy Trading Corp submits a supplement to its 8/1/06 updated market analysis.

Filed Date: 02/21/2007.

Accession Number: 20070222-0111.

Comment Date: 5 p.m. Eastern Time on Wednesday, March 14, 2007.

Docket Numbers: ER05-1202-002.

Applicants: Blue Canyon Windpower II LLC.

Description: Blue Canyon Windpower II, LLC submits its revised FERC Electric Tariff, First Revised Volume 1.

Filed Date: 02/06/2007.

Accession Number: 20070208-0188.

Comment Date: 5 p.m. Eastern Time on Monday, March 12, 2007.

Docket Numbers: ER05-1420-002.

Applicants: Lehman Brothers Commodity Services Inc.

Description: Lehman Brothers Commodity Services Inc. submits a Notice of Non-Material Change.

Filed Date: 02/20/2007.

Accession Number: 20070220-5028.

Comment Date: 5 p.m. Eastern Time on Tuesday, March 13, 2007.

Docket Numbers: ER07-520-001.

Applicants: Midwest Independent Transmission System Operator, Inc.

Description: Midwest Independent Transmission System Operator, Inc submits an errata to its Amended Interconnection Agreement with the City of Lebanon, Ohio, filed 2/6/07.

Filed Date: 02/23/2007.

Accession Number: 20070305-0189.

Comment Date: 5 p.m. Eastern Time on Friday, March 16, 2007.

Docket Numbers: ER07-576-000.

Applicants: Baltimore Gas and Electric Company.

Description: Baltimore Gas and Electric Co submits revised tariff sheets to its FERC Open Access Transmission Tariff, effective 6/1/07.

Filed Date: 02/28/2007.

Accession Number: 20070305-0128.

Comment Date: 5 p.m. Eastern Time on Wednesday, March 21, 2007.

Docket Numbers: ER07-583-000.

Applicants: Commonwealth Edison Company.

Description: Commonwealth Edison Co submits Sixth Revised Sheet 245 et al to FERC Electric Tariff, Sixth Revised Volume 1, to be effective 5/1/07.

Filed Date: 03/01/2007.

Accession Number: 20070305-0124.

Comment Date: 5 p.m. Eastern Time on Thursday, March 22, 2007.

Docket Numbers: ER07-590-000.

Applicants: New York Independent System Operator, Inc.

Description: New York Independent System Operator, Inc. submits a Request for Limited Waiver and Guidance.

Filed Date: 02/23/2007.

Accession Number: 20070223-5067.

Comment Date: 5 p.m. Eastern Time on Friday, March 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-4403 Filed 3-9-07; 8:45 am]

BILLING CODE 6717-01-P